DEPARTMENT OF COMMERCE

Bureau of Industry and Security

[Docket No. 240926-0255]

RIN 0694-XC108

Effectiveness of Licensing Procedures for the Export and Reexport of Agricultural Commodities to Cuba

AGENCY: Bureau of Industry and Security, Commerce.

ACTION: Request for comments.

SUMMARY: The Bureau of Industry and Security (BIS) is requesting public comments on the effectiveness of its licensing procedures as defined in the Export Administration Regulations (EAR) for the export and reexport of agricultural commodities to Cuba. BIS will include a description of any comments it receives in its biennial report to Congress, as required by the Trade Sanctions Reform and Export Enhancement Act of 2000, as amended (TSRA).

DATES: Comments must be received by November 15, 2024.

ADDRESSES: Comments on this notice may be submitted by either of the following methods:

• Electronic Submission: Submit all electronic public comments via the Federal rulemaking portal. Visit http://www.regulations.gov and type “BIS-2024-0049” in the search box to find this notice.

• Mail: Submit written comments by mail or delivery to Regulatory Policy Division, Bureau of Industry and Security, U.S. Department of Commerce, Room 2099B, 14th Street and Pennsylvania Avenue NW, Washington, DC 20230. Refer to RIN 0694-XC108.

Comments sent by any other method, to any other address or individual, or received after the end of the comment period, may not be considered by BIS. All comments (including any personal identifying information) will be made public.

FOR FURTHER INFORMATION CONTACT: Jerry Huang, Office of Nonproliferation and Foreign Policy Controls, Telephone: (202) 482-4252. Additional information on BIS procedures and previous biennial reports under TSRA is available at http://www.bis.doc.gov/index.php/policy-guidance/country-guidance/sanctioned-destinations/13-policy-guidance/country-guidance/426-reports-to-congress. Copies of these materials may also be requested by contacting the Office of Nonproliferation and Treaty Compliance.

SUPPLEMENTARY INFORMATION: Pursuant to section 906(a) of the Trade Sanctions Reform and Export Enhancement Act of 2000 (TSRA) (22 U.S.C. 7205(a)), the Bureau of Industry and Security (BIS) authorizes exports and reexports of agricultural commodities, as defined in part 772 of the Export Administration Regulations (EAR) (15 CFR parts 730-774), to Cuba. Requirements and procedures associated with such authorization are set forth in § 740.18 of the EAR (15 CFR 740.18). These are the only licensing procedures in the EAR currently in effect pursuant to the requirements of section 906(a) of TSRA.

Under the provisions of section 906(c) of TSRA (22 U.S.C. 7205(c)), BIS must submit a biennial report to Congress on the operation of the licensing system implemented pursuant to section 906(a) for the preceding two-year period. This report must include the number and types of licenses applied for, the number and types of licenses approved, the average amount of time elapsed from the date of filing of a license application until the date of its approval, the extent to which the licensing procedures were effectively implemented, and a description of comments received from interested parties during a 30-day public comment period regarding the effectiveness of the licensing procedures. Consistent with TSRA's requirements, BIS is currently preparing a biennial report on the operation of the licensing system for the two-year period from October 1, 2022 through September 30, 2024.

Request for Comments

By this notice, BIS requests public comments on the effectiveness of the licensing procedures for the export and reexport of agricultural commodities to Cuba set forth under § 740.18 of the EAR. Parties submitting comments are asked to be as specific as possible. All comments received by the close of the comment period will be considered by BIS in developing the report to Congress.

All comments will be publicly available. Any information that the commenter does not wish to be made available to the public should not be submitted to BIS.

Thea D. Rozman Kendler,
Assistant Secretary for Export Administration.

[FR Doc. 2024-23828 Filed 10-15-24; 8:45 am]

BILLING CODE 3510-33-P